DEPARTMENT OF LABOR

Office of the Secretary

Submission for OMB Review; Comment Request

August 29, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on 202-693-4129 or e-mail: King-Darrin@dol.gov.

Comments should be sent to Office of Information and Regulatory Affairs, Attn: OMB Desk Officer for OSHA, Office of Management and Budget, Room 10235, Washington, DC 20503 (202-395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

*Minimize the burden of the collection of information on those who are to respond, including through the use of appropriate automated, electronic, mechanical, or other technological collection techniques or other forms of information technology, e.g., permitting electronic submission of responses.

Type of Review: Extension of a currently approved collection.

Agency: Occupational Safety and Heath Administration (OSHA).

Title: Standard on the Control of Hazardous Energy Sources (Lockout/Tagout)—29 CFR 1910.147.

OMB Number: 1218-0150.

Affected Public: Business or other for-profit; Not-for-profit institutions; State, Local, or Tribal Government; and Federal Government.

Frequency: On occasion; Initially; and Annually.

Type of Response: Recordkeeping and Third-party disclosure.

Number of Respondents: 2,351,014.

Requirement | Annual response | Average response time (hours) | Annual burden hours
Energy-Control Procedure—29 CFR 1910.147(c)(4)(i):
New procedures for high-impact establishments | 27,602 | 2 to 80 | 163,649
New procedures for low-impact establishments | 42,438 | 2.00 | 84,877
Updating procedures for high-impact establishments | 273,548 | .5 to 20 | 481,008
Updating procedures for low-impact establishments | 424,383 | 0.50 | 212,192
Energy-Control Procedure Sub-total | 767,971 |  | 941,726
Periodic Inspection—29—CFR 1910.147(c)(6)(ii)
Training and Communication—29 CFR 1910.147(c)(7): | 818,532 | 0.33 | 270.116
New/retrained employees | 1,775,600 | 0.08 | 142,048
Remaining employees | 5,944,400 | 0.03 | 178,332
Training and Communication Sub-Total: | 7,720,000 |  | 320,380
Notification of Employee—29 CFR 1910.147(c)(9) | 77,504,778 | 0.004 | 310,019
Outside Personnel (Contractors, etc.)—29 CFR 1910.147(f)(2) | 7,750,478 | 0.08 | 620,038
Grand total | 94,561,759 |  | 2,462,279

Total Annualized Capital/Startup Costs: $0.

Total Annual Costs (operating/maintaining systems or purchasing services): $0.

Description: The collections of information contained in 29 CFR 1910.147 are needed to reduce injuries and deaths in the workplace that occur when employees are engaged in maintenance, repair, and other service-related activities requiring the control of potentially hazardous energy.

Ira L. Mills,
Departmental Clearance Officer.

[FR Doc. 02-22695 Filed 9-5-02; 8:45 am]

BILLING CODE 4510-26-M